DEPARTMENT OF EDUCATION

34 CFR Chapter III

[Docket ID ED-2024-OSERS-0114]

Technical Assistance on State Data Collection—IDEA Data Management Center

AGENCY: Office of Special Education and Rehabilitative Services, Department of Education.

ACTION: Proposed priority.

SUMMARY: The Department of Education (Department) proposes a priority for an IDEA Data Management Center, under the Technical Assistance on State Data Collection program. The Department may use this priority for competitions in fiscal year (FY) 2025 and later years. We take this action to focus attention on an identified national need to provide technical assistance (TA) to improve the capacity of States to meet the data collection requirements under Part B and Part C of the Individuals with Disabilities Education Act (IDEA). The IDEA Data Management Center (Data Management Center) will assist States in collecting, reporting, and determining how to best analyze and use their Part B and Part C data to establish and meet high expectations for each child with a disability by enhancing, streamlining, and integrating IDEA Part B data into their State longitudinal data systems (SLDS), and IDEA Part C data and IDEA Part B preschool special education data into their early childhood integrated data system (ECIDS). A brief summary of the proposed rule is available at www.regulations.gov/docket/ED-2024-OSERS-0114.

DATES: We must receive your comments on or before January 21, 2025.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or comments submitted after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to include in their comments only information that they wish to make publicly available.

FOR FURTHER INFORMATION CONTACT: Amy Bae, U.S. Department of Education, 400 Maryland Avenue SW, Room 4A10, Washington, DC 20202. Telephone: (202) 987-1557. Email: Amy.Bae@ed.gov.

If you are deaf, hard of hearing, or have a speech disability and wish to access telecommunications relay services, please dial 7-1-1.

SUPPLEMENTARY INFORMATION:

Invitation to Comment: We invite you to submit comments regarding the proposed priority. To ensure that your comments have maximum effect in developing the final priority, we urge you to identify clearly the specific section of the proposed priority that each comment addresses.

We invite you to assist us in complying with the specific requirements of Executive Orders 12866, 13563, and 14094 and their overall requirement of reducing regulatory burden that might result from the proposed priority. Please let us know of any further ways we could reduce potential costs or increase potential benefits while preserving the effective and efficient administration of the program.

During and after the comment period, you may inspect public comments about the proposed priority by accessing Regulations.gov. To inspect comments in person, please contact the person listed under FOR FURTHER INFORMATION CONTACT.

Assistance to Individuals With Disabilities in Reviewing the Rulemaking Record: On request, we will provide an appropriate accommodation or auxiliary aid to an individual with a disability who needs assistance to review the comments or other documents in the public rulemaking record for the proposed priority. If you want to schedule an appointment for this type of accommodation or auxiliary aid, please contact the person listed under FOR FURTHER INFORMATION CONTACT.

Purpose of Program: The purpose of the Technical Assistance on State Data Collection program is to improve the capacity of States to meet IDEA data collection and reporting requirements. Funding for the program is authorized under section 611(c)(1) of IDEA, which gives the Secretary the authority to reserve not more than one-half of one percent of the amounts appropriated under Part B for each fiscal year to provide TA activities authorized under section 616(i), where needed, to improve the capacity of States to meet the data collection and reporting requirements under Parts B and C of IDEA. The maximum amount the Secretary may reserve under this set-aside for any fiscal year is $25,000,000, cumulatively adjusted by the rate of inflation. Section 616(i) of IDEA requires the Secretary to review the data collection and analysis capacity of States to ensure that data and information determined necessary for implementation of sections 616 and 642 of IDEA are collected, analyzed, and accurately reported to the Secretary. It also requires the Secretary to provide TA, where needed, to improve the capacity of States to meet the data collection requirements, which include the data collection and reporting requirements in sections 616 and 618 of IDEA. In addition, the Further Consolidated Appropriations Act, 2024, Public Law 118-47, gives the Secretary authority to use funds reserved under section 611(c) of IDEA to “administer and carry out other services and activities to improve data collection, coordination, quality, and use under Parts B and C of the IDEA.” Further Consolidated Appropriations Act, 2024, Public Law 118-47, Division D, Title III, 138 Stat. 460, 685 (2024).

Assistance Listing Number: 84.373M.

Program Authority: 20 U.S.C. 1411(c), 1416(i), 1418(c), 1418(d), 1442; Further Consolidated Appropriations Act, 2024, Public Law 118-47, Division D, Title III, 138 Stat. 460, 685 (2024).

Applicable Program Regulations: 34 CFR 300.702.

Proposed Priority:

This document contains one proposed priority.

IDEA Data Management Center.

Background:

The purpose of this proposed priority is to establish a TA center to provide TA to improve States' capacity to collect, report, analyze, and use high-quality IDEA Part B and Part C data (including data reported under IDEA sections 616, 618, and 642) by enhancing, streamlining, and integrating IDEA Part B data into their SLDS and IDEA Part C data and IDEA Part B, preschool special education data into their ECIDS. The Data Management Center's work and TA will identify applicable requirements for, and reflect compliance with, the privacy and confidentiality protections under Parts B and C of the IDEA and the Family Educational Rights and Privacy Act (FERPA). The Data Management Center will not provide the Department with access to child-level data and will further ensure that such data is de-identified, as defined in 34 CFR 99.31(b)(1).

Integrating SLDS with IDEA Part B data is a complex issue. While a majority of States have an SLDS, until recently very few of those systems integrated IDEA Part B data. Specifically, in the IDEA State Supplemental Survey in school year (SY) 2015-16, only 18 of 60 (30 percent) Part B reporting entities responded that all their special education data was in their SLDS. However, in the 2022 survey data reported to the National Center for Education Statistics through the SLDS State Data Capacity Survey,¹ 40 (71 percent) respondents indicated that they now connect Part B data to kindergarten-12 data in the SLDS. An additional three (5.4 percent) report that it is in progress and five (8.9 percent) report that it is planned.

¹ For more information on the National Center for Education Statistics SLDS State Data Capacity Survey, please go to https://nces.ed.gov/programs/slds/.

Integrating IDEA Part B data into their SLDS adds value.² It allows States to standardize data collected across programs, meet Federal reporting requirements, provide additional information on the participation in other programs by children with disabilities, and support program improvement.

² For more information on the SLDS Grant Program and its intended outcomes, please visit: https://nces.ed.gov/programs/slds/about_SLDS.asp.

Currently, most children with disabilities are educated in the same settings as children without disabilities; ³ however, the majority of States continue to separate disability and special education related data from other data collected on students (e.g., demographics, assessment data). Some States are using separate data collections to meet the reporting requirements under sections 616 and 618 of IDEA (e.g., discipline, assessment, educational environments) rather than including all data elements needed for Federal reporting in their SLDS. Through interactions with States and TA providers around data quality needs and challenges, the Department has found that programs, districts, and State educational agencies (SEAs) are using different collection processes to gather data for their required data submissions, resulting in different degrees of reliability in the data collected.

³ See https://data.ed.gov/dataset/idea-section-618-data-products-state-level-data-files.

States with fragmented data systems are more likely to have missing or duplicate data. For example, if a State collects and maintains data on disciplinary removals of children with disabilities in a special education data system but maintains data on the demographics of all children in another data system, the State may not be able to accurately match all data on disciplinary removals with the demographic data needed to meet IDEA Part B data collection and reporting requirements. Since discipline data is used to examine issues related to disproportionality affecting children with disabilities, inaccurate data or incomplete data will impact States' ability to use the data to make appropriate programmatic changes aimed at addressing exclusionary practices within educational settings.

In addition, States with fragmented data systems often lack the capacity to cross-validate related data elements. For example, if the data on the type of statewide assessment in which children with disabilities participate is housed in one database and the grade in which children are enrolled is housed in another, the State may not be able to accurately match the assessment data to the grade-level data to meet the Federal reporting requirements, including IDEA Part B reporting requirements under sections 616 and 618 of IDEA. The inability to match children with disabilities who participated in statewide assessments with the appropriate grades may result in these children with disabilities not being included in the accountability system and improvement activities may not take these children with disabilities into consideration.

Fragmented data systems and variations in how programs or districts are operationalizing the reporting instructions and definitions hinder States' capacity both to collect and report valid and reliable data on children with disabilities to the Secretary and to the public, which is specifically required by IDEA sections 616(b)(2)(B)(i), 616(b)(2)(C)(ii), and 618(a), and to meet IDEA Part B data collection and reporting requirements under sections 616 and 618 of IDEA. Valid and reliable data on children with disabilities is crucial for effective program planning and evaluation. It allows key parties to make informed decisions, allocate resources effectively, and tailor interventions to meet the specific needs of students, ultimately leading to improved outcomes.

States have expressed greater desire for TA from the currently funded Data Management Center to establish or improve their SLDS, exceeding the Center's capacity to serve all of them. Although focused TA has been provided to 23 targeted States, 28 more await targeted TA to integrate their IDEA Part B data with their SLDS.

Similarly, improvements are necessary in States' management, collection, coordination, reporting, and integration of Part C and Part B preschool special education data so that high-quality IDEA Part C and Part B preschool special education data required under sections 618 and 616 of IDEA are reported to the Department. Beginning with the 2023-24 Part C Exiting data, States will be required to submit all IDEA section 618 Part C data collections through a new submission system (EDPass). In previous years, States have submitted these data through the EDFacts Metadata and Process system, which provides onscreen data entry tables and fields for reporting the IDEA section 618 data. The EDPass system will require States to build data files based on new file specifications and upload those files to EDPass. Once uploaded, the State will be required to respond to a series of data quality checks to ensure the quality of their Part C data being submitted to the Department.

As the process to submit the IDEA Part C data has evolved and increased in complexity due to the move to EDPass, more efficient, effective, and user-friendly approaches are necessary for conducting the early childhood IDEA data collection, reporting, and submission processes. Improved data management and coordination processes, as well as the increase of linked and integrated child-level data in IDEA Part C data systems, IDEA Part B preschool special education data systems, early care and education program data systems, and SLDS for school-aged children, are key approaches for States in meeting these increased expectations around Part C data and Part B section 619 data being submitted via EDPass.

States are strongly encouraged to establish and implement effective early childhood data management and, where appropriate, data system coordination and integration policies and procedures to support program improvement, compliance accountability, and Federal and public reporting. Developing interagency agreements and revising policies and procedures (that all meet applicable Federal privacy requirements) would allow States, where appropriate, to coordinate, link, or integrate child-level data in IDEA Part C data systems and IDEA Part B preschool special education data systems as an important first step, and also potentially with other early care and education program data. An ECIDS could help States identify what works best to improve outcomes for young children in their States. For instance, an ECIDS can provide States with information needed to assess the characteristics of services that may be related to better outcomes for children and families or the relationship between early childhood settings and early childhood outcomes. An ECIDS that includes data across various early care and education programs could also improve child find activities in the State by identifying potentially underserved populations as well as strong referral sources and those where more outreach may be needed. An ECIDS could also help States determine the other early care and education programs that serve young children with disabilities and their families, allowing States to coordinate better with such programs and operate early intervention or preschool special education programs with a focus on improving outcomes. For example, States are working to link their universal screening data to SLDS and ECIDS in order to increase early childhood developmental screening rates for young children.

Building robust ECIDSs that include Part C early intervention data and Part B preschool special education data would help improve IDEA child find and transition data collection, reporting, and analysis, improve responses to critical policy questions, facilitate program improvement, and improve compliance for IDEA Part C early intervention and IDEA Part B preschool special education programs. This level of coordination and integration would help ensure that States report high-quality IDEA data to the Department and the public.

Though some improvements have been made over the last 10 years in linking and integrating IDEA Part C early intervention and IDEA Part B preschool special education data to data from early care and education programs, K-12 data systems, and the workforce, as well as longitudinally over time, the percentage of State programs that report they can make these linkages remains low. Less than 40 percent of IDEA Part C early intervention and IDEA Part B preschool special education programs that responded to a survey ⁴ in 2021 reported they can link their child-level data to their workforce data. Less than 30 percent of IDEA Part C early intervention programs that responded reported that their State links IDEA Part C child-level data to Early Head Start, Head Start, State Pre-K, child care programs, home visiting programs, or other early care or education programs. Most IDEA Part C early intervention programs that responded reported they have never linked their IDEA Part C data to their IDEA Part B preschool special education data. Reasons vary, but the most common reasons include budgetary constraints and competing staffing priorities.

⁴ Perez, N., & Mercier, B. (2022). 2021 DaSy data systems (State of the States) survey findings. SRI International. https://dasycenter.org/wp-content/uploads/2022/12/DaSy_2021DaSyDataSystemsSurveyFindings_Acc.pdf.

This proposed priority would directly address these capacity-related challenges, as well as increased expectations and other capacity challenges IDEA Part C early intervention and IDEA Part B preschool special education programs face with respect to effectively and efficiently collecting, reporting, analyzing, and using high-quality IDEA data to improve the capacity of States to meet the data collection and reporting requirements under Parts B and C of IDEA.

Proposed Priority:

The purpose of this proposed priority is to fund a cooperative agreement to establish and operate an IDEA Data Management Center (Data Management Center). The Data Management Center will respond to State needs as States determine whether and how to coordinate and integrate their IDEA Part B and Part C data required to meet the data collection requirements in sections 616 and 618 of IDEA into their longitudinal data systems (including SLDS and ECIDS) while ensuring applicable IDEA and FERPA privacy protections are met. This integration will improve the capacity of States to collect, report, analyze, and use high-quality IDEA Part B and Part C data to establish and meet high expectations for each child with a disability. The Data Management Center will help States address challenges with data management procedures and data systems architecture and better meet current and future IDEA Part B and Part C data collection and reporting requirements. The Data Management Center's work will comply with the privacy and confidentiality protections under IDEA and FERPA. The Data Management Center will not provide the Department with access to child-level data and will further ensure that such data is de-identified, as defined in 34 CFR 99.31(b)(1).

The Data Management Center must be designed to achieve, at a minimum, the following expected outcomes:

(a) Increased capacity of States to use interagency agreements or other mechanisms to coordinate and integrate IDEA Part B and IDEA Part C data required under sections 616 and 618 of IDEA within their SLDS while meeting the applicable privacy requirements under Parts B and C of the IDEA and FERPA (which may include developing or disseminating TA resources on privacy, interagency agreements on data sharing and/or data coordination, and integration);

(b) Increased use of IDEA Part B and IDEA Part C data within States by developing products to allow States to report their special education, preschool special education, and early intervention data to various partners (e.g., other State agencies, policymakers, school and early care and education program personnel, local and State school boards, local educational agency (LEA) administrators, early care and education childhood administrators, researchers, charter school authorizers, parents and advocates, Indian Tribes, and Tribal organizations) through their longitudinal data systems;

(c) Increased number of States that use data governance and data management procedures to increase their capacity to meet the IDEA Part B and IDEA Part C reporting requirements under sections 616 and 618 of IDEA;

(d) Increased capacity of States to utilize their SLDS and ECIDS to collect, report, analyze, and use high-quality IDEA Part B and IDEA Part C data (including data required under sections 616, 618, and 642 of IDEA);

(e) Increased capacity of States to use their SLDS and ECIDS to analyze high-quality data on the participation and outcomes of children with disabilities who receive services under IDEA and under Title I of the Elementary and Secondary Education Act of 1965, as amended (ESEA), to improve IDEA and ESEA programs and the outcomes of children with disabilities; and

(f) Increased capacity of States to coordinate and use available IDEA Part C early intervention data with IDEA Part B preschool special education data (and to integrate or link such data with ECIDS, if applicable) to analyze high-quality data on the participation and outcomes of infants, toddlers, and children with disabilities served under IDEA who may also participate in other programs and services (e.g., child care, Early Head Start, Head Start, publicly funded preschool, and home visiting programs).

In addition to these programmatic requirements, to be considered for funding under this priority, applicants must meet the application and administrative requirements in this priority, which are:

(a) Describe, in the narrative section of the application under “Significance,” how the proposed project will—

(1) Address State challenges associated with State data management procedures, data systems architecture, and building EDFacts data files and reports for timely reporting of the IDEA Part B and IDEA Part C data to the Department and the public. To meet this requirement the applicant must—

(i) Present applicable national, State, or local data demonstrating the difficulties that States have encountered in the collection and submission of valid and reliable IDEA Part B and IDEA Part C data;

(ii) Demonstrate knowledge of current educational and technical issues and policy initiatives relating to IDEA Part B data and IDEA Part C collections and EDFacts file specifications for the IDEA Part B and IDEA Part C data collections; and

(iii) Present information about the current level of implementation of integrating IDEA Part B data within SLDS and IDEA Part C and IDEA Part B preschool special education data within ECIDs, and the reporting of high-quality IDEA Part B and IDEA Part C data to the Department and the public.

(b) Describe, in the narrative section of the application under “Quality of project services,” how the proposed project will—

(1) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(2) Use a conceptual framework (and provide a copy in Appendix A) to develop project plans and activities, describing any underlying concepts, assumptions, expectations, beliefs, or theories, as well as the presumed relationships or linkages among these variables, and any empirical support for this framework;

Note: The following website provides more information on logic models and conceptual frameworks: https://ies.ed.gov/ncee/rel/Products/Region/central/Resource/100644.

(3) Be based on current research and make use of evidence-based ⁵ practices (EBPs). To meet this requirement, the applicant must describe—

⁵ For the purposes of these requirements, “evidence-based” means the proposed project component is supported by one or more of strong evidence, moderate evidence, promising evidence, or evidence that demonstrates a rationale (as such terms are defined in 34 CFR 77.1).

(i) The current research on data collection strategies, data management procedures, and data systems architecture; and

(ii) How the proposed project will incorporate current research and EBPs in the development and delivery of its products and services;

(4) Develop products and provide services that are of high quality and sufficient intensity and duration to achieve the intended outcomes of the proposed project. To address this requirement, the applicant must describe—

(i) How it proposes to identify or develop the knowledge base on States' data management processes and data systems architecture;

(ii) A plan to provide a range of products and services to—

(A) Improve States' capacity to report high-quality IDEA Part B and Part C data required under sections 616, 618, and 642 of IDEA through their SLDS and other applicable data systems; and

(B) Improve States' capacity to link and integrate (where determined appropriate by States) their IDEA Part C early intervention and IDEA Part B preschool special education data with data/data systems associated with other Federal programs and services that support infants, toddlers, and young children and their families in order to report high-quality IDEA Part C data and IDEA Part B preschool special education data required under sections 616 and 618 of IDEA. The plan must include, at a minimum, how the project will—

(1) In Years 1 through 5—

(i) Support, in partnership with the Department, the implementation of an existing open-source electronic tool to assist States in building EDFacts data files and reports that can be submitted to the Department and made available to the public. The tool must utilize Common Education Data Standards (CEDS) and meet all States' needs associated with reporting the IDEA Part B and Part C data required under sections 616, 618, and 642 of IDEA;

(ii) Provide maintenance to support the appropriate functionality of the open-source electronic tool as changes are made to data collections, reporting requirements, file specifications, and CEDS (such as links within the system to include TA products developed by other Office of Special Education Programs (OSEP) and Department-funded centers or contractors);

(iii) Provide TA focused on data governance to facilitate the use of the open-source electronic tool and training to State staff to implement the open-source electronic tool;

(iv) Revise the CEDS “Connections” to calculate metrics needed to report the IDEA Part B and Part C data required under sections 616 and 618 of IDEA;

(v) Develop other outputs (e.g., reports, Application Programming Interface, new innovations) of an open-source electronic tool that can support reporting by States of IDEA Part B data to different partner groups (e.g., LEAs, charter schools, legislative branch, parents);

(vi) Implement strategies to support the inclusion of other OSEP and Department-funded TA centers' products within the open-source electronic tool or build connections that allow the SEAs to pull IDEA Part B data efficiently into the other TA products;

(vii) Support a user group of States that are using an open-source electronic tool for reporting IDEA Part B and Part C data required under sections 616 and 618 of IDEA; and

(viii) Develop products and presentations that include tools and solutions to challenges in data management procedures and data system architecture for reporting the IDEA Part B and Part C data required under sections 616 and 618 of IDEA;

(2) In Years 2 through 5—

(i) Develop, in partnership with the Department, an open-source electronic tool to assist States with linking and integrating their IDEA Part C early intervention and IDEA Part B preschool special education data with other data/data systems associated with other Federal programs and services that support infants, toddlers, and young children and their families, in order to provide high-quality reporting of the IDEA Part C data and IDEA Part B preschool special education data required under sections 616 and 618 of IDEA; drive program improvement; improve results for children with disabilities; and improve compliance accountability. The tool must utilize CEDS and meet States' needs associated with linking or integrating their Part C early intervention and Part B preschool special education data with other data/data systems associated with other Federal programs that support infants, toddlers, and young children and their families;

(ii) Develop the CEDS “Connections” to ensure the electronic tool is built for States to conduct analyses related to reporting the IDEA Part C data and IDEA Part B preschool special education data required under sections 616 and 618 of IDEA, driving program improvement, improving results for children with disabilities and their families, and improving compliance accountability;

(iii) Provide maintenance to support the appropriate functionality of the open-source electronic tool as changes are made to data reporting requirements and CEDS;

(iv) Provide TA on data governance to facilitate the use of the open-source electronic tool and training to State staff to implement the open-source electronic tool; and

(v) Support a user group of States that are using an open-source electronic tool for reporting the IDEA Part C data and IDEA Part B preschool special education data required under sections 616, 618, and 642 of IDEA;

(iii) Its proposed approach to universal, general TA,⁶ which must identify the intended recipients, including the type and number of recipients, that will receive the products and services, a description of the products and services that the Center proposes to make available, and the expected impact of those products and services under this approach;

⁶ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iv) Its proposed approach to targeted, specialized TA,⁷ which must identify—

⁷ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach; and

(B) Its proposed approach to measure the readiness of potential TA recipients to work with the project, assessing, at a minimum, their current infrastructure, available resources, and ability to build capacity at the local level; and

(C) The process by which the proposed project will collaborate with Department-funded centers (including privacy TA centers such as the DaSy Center that provides Department-funded TA on early childhood data privacy, and the Privacy Technical Assistance Center) and other federally funded TA centers to develop and implement a coordinated TA plan when they are involved in a State;

(v) Its proposed approach to intensive, sustained TA,⁸ which must identify—

⁸ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients from a variety of settings and geographic distribution, that will receive the products and services under this approach;

(B) Its proposed approach to address States' challenges associated with integrating IDEA Part B data within SLDS and IDEA Part C and IDEA Part B preschool special education data within ECDIS and to report high-quality IDEA Part B and IDEA Part C data to the Department and the public, which should, at a minimum, include providing on-site consultants to SEAs and Part C lead agencies to—

(1) Model and document data management and data system integration policies, procedures, processes, and activities within the State;

(2) Support the State's use of an open-source electronic tool and provide technical solutions to meet State-specific data needs;

(3) Develop a sustainability plan for the State to maintain the data management and data system integration work in the future; and

(4) Support the State's cybersecurity plan in collaboration, to the extent appropriate, with the Department's Student Privacy Policy Office and its Privacy Technical Assistance Center;

(5) Develop products and implement services that maximize efficiency. To address this requirement, the applicant must describe—

(i) How the proposed project will use technology to achieve the intended project outcomes;

(ii) With whom the proposed project will collaborate and the intended outcomes of this collaboration; and

(iii) How the proposed project will use non-project resources, such as non-Federal funds and in-kind contributions, to achieve the intended project outcomes; and

(6) Develop a dissemination plan that describes how the applicant will systematically distribute information, products, and services to varied intended audiences, using a variety of dissemination strategies, to promote awareness and use of the Center's products and services.

(c) In the narrative section of the application under “Quality of the project evaluation or other evidence-building,” describe how the project will develop an evaluation plan in consultation with, and to be implemented by, a third-party evaluator.⁹ The evaluation plan must—

⁹ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions must be related to the project's proposed logic model required under paragraph (b)(2)(ii);

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the Annual Performance Report (APR) and at the end of Year 2; and

(5) Dedicate sufficient funds in each budget year to cover the costs of developing or refining the evaluation plan in consultation with a third-party evaluator, as well as the costs associated with the implementation of the evaluation plan by the third-party evaluator.

(d) Demonstrate, in the narrative section of the application under “Adequacy of resources and quality of the project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits, and funds will be spent in a way that increases their efficiency and cost-effectiveness, including by reducing waste or achieving better outcomes.

(e) Describe, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A three-day project directors' conference in Washington, DC, during each year of the project periods, provided that, if the meeting is conducted virtually, the project must reallocate unused travel funds no later than the end of the third quarter of each budget period;

(iii) Three annual two-day trips to attend Department briefings, Department-sponsored conferences, and other meetings, as requested by OSEP; and

(3) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(4) Provide an assurance that it will maintain a high-quality website, with an easy-to-navigate design, that meets government or industry-recognized standards for accessibility;

(5) Include, in Appendix A, an assurance to assist OSEP with the transfer of pertinent resources and products and to maintain the continuity of services to States during the transition to a new award at the end of this award period, as appropriate; and

(6) Budget at least 50 percent of the grant award for providing targeted and intensive TA to States.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a document in the Federal Register. We will determine the final priority after considering public comments on the proposed priority and other information available to the Department. This document does not preclude us from proposing additional priorities, requirements, definitions, or selection criteria, subject to meeting applicable rulemaking requirements.

Note: This document does not solicit applications. In any year in which we choose to use this proposed priority, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priority only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand.

The Secretary invites comments on how to make the proposed priority easier to understand, including answers to questions such as the following:

• Are the requirements in the proposed priority clearly stated?

• Does the proposed priority contain technical terms or other wording that interferes with their clarity?

• Does the format of the proposed priority (grouping and order of sections, use of headings, paragraphing, etc.) aid or reduce their clarity?

• Would the proposed priority be easier to understand if we divided them into more (but shorter) sections?

• Could the description of the proposed priority in the SUPPLEMENTARY INFORMATION section of this preamble be more helpful in making the proposed priority easier to understand? If so, how?

• What else could we do to make the proposed priority easier to understand?

To send any comments about how the Department could make the proposed priority easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification: The Secretary certifies that the proposed priority would not have a significant economic impact on a substantial number of small entities. The small entities that this proposed regulatory action would affect are LEAs, including charter schools that operate as LEAs under State law; institutions of higher education; other public agencies; private nonprofit organizations; freely associated States and outlying areas; Indian Tribes or Tribal organizations; and for-profit organizations. We believe that the costs imposed on an applicant by the proposed priority would be limited to paperwork burden related to preparing an application and that the benefits of the proposed priority would outweigh any costs incurred by the applicant.

Participation in the Technical Assistance on State Data Collection program is voluntary. For this reason, the proposed priority would impose no burden on small entities unless they applied for funding under the program. We expect that in determining whether to apply for Technical Assistance on State Data Collection program funds, an eligible entity would evaluate the requirements of preparing an application and any associated costs and weigh them against the benefits likely to be achieved by receiving a Technical Assistance on State Data Collection program grant. An eligible entity probably would apply only if it determines that the likely benefits exceed the costs of preparing an application.

We believe that the proposed priority would not impose any additional burden on a small entity applying for a grant than the entity would face in the absence of the proposed action. That is, the length of the applications those entities would submit in the absence of the proposed regulatory action and the time needed to prepare an application would likely be the same.

This proposed regulatory action would not have a significant economic impact on a small entity once it receives a grant because it would be able to meet the costs of compliance using the funds provided under this program. We invite comments from eligible small entities as to whether they believe this proposed regulatory action would have a significant economic impact on them and, if so, request evidence to support that belief.

Paperwork Reduction Act of 1995

The proposed priority contains information collection requirements that are approved by OMB under OMB control number 1820-0028. The proposed priority does not affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Glenna Wright-Gallo,
Assistant Secretary for Special Education and Rehabilitative Services.

[FR Doc. 2024-25862 Filed 11-6-24; 8:45 am]

BILLING CODE 4000-01-P